DEPARTMENT OF TRANSPORTATION

Federal Aviation Administration

14 CFR Part 91

[Docket No.: FAA-2014-0225; Amdt. No. 91-331C]

RIN 2120-AK78

Extension of the Prohibition Against Certain Flights in the Simferopol (UKFV) and Dnipropetrovsk (UKDV) Flight Information Regions (FIRs); Technical Amendment

AGENCY: Federal Aviation Administration (FAA), Department of Transportation (DOT).

ACTION: Final rule; technical amendment.

SUMMARY: On October 27, 2015, the Federal Aviation Administration (FAA) published a final rule extending the prohibition against certain flight operations in the Simferopol (UKFV) and Dnipropetrovsk (UKDV) flight information regions (FIRs) by all United States (U.S.) air carriers; U.S. commercial operators; persons exercising the privileges of a U.S. airman certificate, except when such persons are operating a U.S.-registered aircraft for a foreign air carrier; and operators of U.S.-registered civil aircraft, except when such operators are foreign air carriers. The State Aviation Administration of Ukraine conducted and completed an airspace restructuring that altered the Simferopol (UKFV) and Dnipropetrovsk (UKDV) Flight Information Region (FIR) altitude structure specified in the final rule. To address the Ukraine airspace restructuring and provide additional clarity, this technical amendment specifically identifies the prohibited airspace in which Special Federal Aviation Regulation (SFAR) 113, applies, with inclusive altitudes and lateral limitations (latitude and longitude coordinates).

DATES: This final rule is effective on July 21, 2016.

FOR FURTHER INFORMATION CONTACT: Michael Filippell, Air Transportation Division, AFS-220, Flight Standards Service, Federal Aviation Administration, 800 Independence Avenue SW., Washington, DC 20591; telephone: 202-267-8166; email: michael.e.filippell@faa.gov.

SUPPLEMENTARY INFORMATION:

I. Good Cause for Immediate Adoption

Section 553(b)(3)(B) of the Administrative Procedure Act (APA) (5 U.S.C.) authorizes agencies to dispense with notice and comment procedures for rules when the agency for “good cause” finds that those procedures are “impracticable, unnecessary, or contrary to the public interest.” Under this section, an agency, upon finding good cause, may issue a final rule without seeking comment prior to the rulemaking.

The FAA finds that good cause exists under APA section 553(b)(3)(B) for this technical amendment to published without public notice and comment because this amendment is limited to providing additional clarity concerning specific airspace subject to the existing SFAR restriction, by adding latitude and longitude coordinates in lieu of the names for the FIRs.

In addition, section 553(d)(3) of the Administrative Procedure Act requires publication of a substantive rule must be made not less than 30 days before the effective date except when the agency finds good cause and publishes such justification with the rule.

Good cause exists under section 553(d)(3) of the APA for this technical amendment to become effective on the date of its filing for public inspection. Section 553(d)(3) allows an effective date less than 30 days after publication “as otherwise provided by the agency for good cause found and published with the rule.” 5 U.S.C. 553(d)(3). This rule merely provides additional clarity for the specific airspace subject to the existing restriction, by adding latitude and longitude coordinates in lieu of the names for the FIRs. In addition, the public interest is served by avoiding delay in the effective date of this technical amendment because clarity in the coverage of airspace subject to the rule is necessary to address the potential hazard to civil aviation that exists in the Simferopol (UKFV) and Dnepropetrovsk (UKDV) FIRs, as described in the FAA's final rule promulgating the SFAR. 80 FR 65621, 65622. For these reasons, the FAA finds good cause under APA section 553(d)(3) exists for this amendment to become effective on July 21, 2016.

II. Background

SFAR 113, § 91.1607, Prohibition Against Certain Flights in the Simferopol (UKFV) and Dnipropetrovsk (UKDV) Flight Information Regions (FIRs) was published on December 29, 2014, and subsequently extended on October 27, 2015. As explained in the preamble accompanying the December 29, 2014 rule, the FAA first restricted flights over Simferopol (UKFV) by publishing the SFAR on April 25, 2014. On December 29, 2014, the FAA extended the scope of the airspace covered by the SFAR, based on increased safety concerns. The December 29, 2014, rule was extended on October 27, 2015. During this time period, the State Aviation Administration of Ukraine restructured the airspace. The new configuration altered both the Simferopol (UKFV) and Dnipropetrovsk (UKDV) Flight Information Region (FIR) altitude structures. In order to address the Ukraine airspace restructuring, this technical amendment specifically identifies the prohibited airspace in which SFAR 113, § 91.1607, applies, to provide inclusive altitudes and lateral limitations (latitude and longitude coordinates).

III. Technical Amendment

Consistent with the foregoing, the FAA clarifies the lateral limits of the prohibited airspace to include that area previously described as the Simferopol (UKFV) FIR, which is defined as:

465800N 0360000E-463500N 0364200E-

463424N 0372206E-452700N 0364100E-

452242N 0364100E-451824N 0363524E-

451442N 0363542E-451218N 0363200E-

450418N 0363418E-445612N 0363636E-

443100N 0364000E-424400N 0361600E-

424700N 0340000E-424800N 0320000E-

424800N 0310000E-424800N 0304500E-

434100N 0303200E-441000N 0302512E-

441500N 0302400E-444600N 0300900E-

445447N 0300448E-445230N 0302130E-

445848N 0303342E-451530N 0310642E-

452436N 0312500E-453828N 0315311E-

454436N 0320548E-455442N 0322700E-

460730N 0325430E-464600N 0325300E-

474400N 0330300E-472700N 0344800E-

470630N 0355500E-465800N 0360000E

The prohibited airspace within the above lateral limits extends in altitude from the surface to unlimited.

Additionally, prohibited airspace includes that area previously described as the Dnipropetrovsk (UKDV) FIR, which is defined as:

511400N 0342700E-504942N 0341300E-

502043N 0335720E-501246N 0335307E-

491848N 0333700E-485700N 0332200E-

484118N 0324431E-483620N 0324010E-

483128N 0323605E-482300N 0323900E-

480730N 0325324E-474600N 0325000E-

474400N 0330300E-472700N 0344800E-

470630N 0355500E-465800N 0360000E-

463500N 0364200E-463424N 0372206E-

463930N 0372518E-464700N 0373000E-

465900N 0382000E-470642N 0381324E-

then along state boundary until point/-511400N 0342700E

The prohibited airspace within the above lateral limits extends in altitude from the surface to unlimited.

List of Subjects in 14 CFR Part 91

Air traffic control, Aircraft, Airmen, Airports, Aviation safety, Freight, Ukraine.

The Amendment

In consideration of the foregoing, the Federal Aviation Administration amends chapter I of title 14, Code of Federal Regulations, as follows:

PART 91—GENERAL OPERATING AND FLIGHT RULES

1. The authority citation for part 91 continues to read as follows:

Authority: 49 U.S.C. 106(f), 106(g), 1155, 40101, 40103, 40105, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. In § 91.1607, revise paragraph (b) to read as follows:

§ 91.1607 Special Federal Aviation Regulation No. 113—Prohibition Against Certain Flights in the Simferopol (UKFV) and Dnipropetrovsk (UKDV) Flight Information Regions (FIRs).

* * * * *

(b) Flight prohibition. Except as provided in paragraphs (c) and (d) of this section, no person described in paragraph (a) of this section may conduct flight operations in the Simferopol (UKFV) FIR or the Dnipropetrovsk (UKDV) FIR.

(1)(i) The lateral limits of the prohibited airspace includes that area currently described as the Simferopol (UKFV) FIR, which is defined as:

465800N 0360000E-463500N 0364200E-

463424N 0372206E-452700N 0364100E-

452242N 0364100E-451824N 0363524E-

451442N 0363542E-451218N 0363200E-

450418N 0363418E-445612N 0363636E-

443100N 0364000E-424400N 0361600E-

424700N 0340000E-424800N 0320000E-

424800N 0310000E-424800N 0304500E-

434100N 0303200E-441000N 0302512E-

441500N 0302400E-444600N 0300900E-

445447N 0300448E-445230N 0302130E-

445848N 0303342E-451530N 0310642E-

452436N 0312500E-453828N 0315311E-

454436N 0320548E-455442N 0322700E-

460730N 0325430E-464600N 0325300E-

474400N 0330300E-472700N 0344800E-

470630N 0355500E-465800N 0360000E

(ii) The prohibited airspace within the lateral limits extends in altitude from the surface to unlimited.

(2)(i) The lateral limits of the prohibited airspace includes that area previously described as the Dnipropetrovsk (UKDV) FIR, which is defined as:

511400N 0342700E-504942N 0341300E-

502043N 0335720E-501246N 0335307E-

491848N 0333700E-485700N 0332200E-

484118N 0324431E-483620N 0324010E-

483128N 0323605E-482300N 0323900E-

480730N 0325324E-474600N 0325000E-

474400N 0330300E-472700N 0344800E-

470630N 0355500E-465800N 0360000E-

463500N 0364200E-463424N 0372206E-

463930N 0372518E-464700N 0373000E-

465900N 0382000E-470642N 0381324E-

then along state boundary until point/-511400N 0342700

(ii) The prohibited airspace within the lateral limits extends in altitude from the surface to unlimited.

* * * * *

Issued in Washington, DC, under the authority of 49 U.S.C. 106(f), 40101(d)(1), 40105(b)(1)(A), and 44701(a)(5), on July 14, 2016.
Dale Bouffiou,
Deputy Director, Office of Rulemaking.

[FR Doc. 2016-17431 Filed 7-21-16; 8:45 am]

BILLING CODE 4910-13-P